DEPARTMENT OF COMMERCE

National Oceanic and Atmospheric Administration

RIN 0648-XZ15

Marine Mammals and Endangered Species; File Nos. 808-1735, 14233, 14506, 14603, and 14726

AGENCY: National Marine Fisheries Service (NMFS), National Oceanic and Atmospheric Administration (NOAA), Commerce.

ACTION: Notice; issuance of permits and permit amendment.

SUMMARY: Notice is hereby given that NMFS has issued four permits and a permit amendment to conduct research on marine mammals or sea turtles. See SUPPLEMENTARY INFORMATION for additional information regarding permittees.

ADDRESSES: The permits and related documents are available for review upon written request or by appointment in the following offices: See SUPPLEMENTARY INFORMATION.

FOR FURTHER INFORMATION CONTACT: The following Analysts at (301)713-2289. For File Nos. 808-1735, 14233 and 14603: Amy Hapeman or Kristy Beard; File Nos. 14506 and 14726: Amy Hapeman or Colette Cairns.

SUPPLEMENTARY INFORMATION: On March 11, 2010, notice was published in the Federal Register (75 FR 11516) that a request for a permit amendment to conduct research on Arnoux's beaked whales (Berardius arnouxii) had been submitted by Andrew Read, Ph.D. [File No. 808-1735]. On September 10, 2009, notice was published in the Federal Register (74 FR 46570) that a request for a permit to conduct research on North Atlantic right whales (Eubalaena glacialis) had been submitted by Scott D. Kraus, Ph.D. [File No. 14233]. On December 16, 2009, notice was published in the Federal Register (74 FR 66618) that a request for a permit to conduct research on green (Chelonia mydas), hawksbill (Eretmochelys imbricata), Kemp's ridley (Lepidochelys kempii), loggerhead (Caretta caretta), and leatherback (Dermochelys coriacea) sea turtles had been submitted by Llewellyn Ehrhart, Ph.D. [File No. 14506]. On October 26, 2009, notice was published in the Federal Register (74 FR 54959) that a request for a permit to conduct research on North Atlantic right whales had been submitted by the Provincetown Center for Coastal Studies (CCS) [Responsible Party: Richard Delaney; File No. 14603]. On October 21, 2009, notice was published in the Federal Register (74 FR 54021) that a request for a permit to conduct research on green, hawksbill, Kemp's ridley, loggerhead, and leatherback sea turtles had been submitted by Blair Witherington [File No. 14726]. The requested permits and permit amendment have been issued under the following authorities as applicable: the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Andrew Read, Ph.D. [File No. 808-1735], Duke University Marine Laboratory, 135 Pivers Island Road, Beaufort, North Carolina 28516, was issued an amendment to Permit No. 808-1735, originally issued on June 27, 2007 (72 FR 36429). Permit No. 808-1735 authorizes Dr. Read to take humpback (Megaptera novaeangliae), blue (Balaenoptera musculus), fin (B. physalus), sei (B. borealis), and Antarctic minke (B. bonaerensis) whales in the Southern Ocean to examine their foraging behavior relative to krill patches. The permit authorizes the close approach of whales during vessel surveys for photo-identification, behavioral observation, tracking, and incidental harassment. A subset of whales may be suction-cup tagged during surveys. This amendment, Permit No. 808-1735-01, authorizes researchers to take Arnoux's beaked whales during vessel surveys in the Southern Ocean for photo-identification, behavioral observation, and incidental harassment and suction-cup tag a subset of animals. The purpose of the research is to gain information on the distribution, biology, ecology, movement patterns, and behavior of this extremely rare species and generate a catalog of known individuals that can then be used for a mark-recapture experiment. The amendment is valid until the permit expires May 31, 2012.

Scott Kraus, Ph.D. [File No. 14233], New England Aquarium Edgerton Research Laboratory, Central Wharf, Boston, Massachusetts, 02110, was issued a five-year permit to study North Atlantic right whales along the U.S. East Coast from Florida to Maine via aerial and vessel surveys. During vessel surveys, researchers may approach, photograph and collect fecal samples from whales and biopsy sample a subset of animals. Researchers also may import and export biological samples, including samples and tissues from dead right whales in other parts of the world to use in control and comparative studies.

Llewellyn Ehrhart, Ph.D. [File No. 14506], University of Central Florida, P.O. Box 162368, Orlando, Florida 32816, was issued a five-year permit to continue long-term studies of sea turtle populations in three disparate habitats on Florida's Atlantic coast: the Indian River Lagoon System, the Sabellariid worm rock reefs of Indian River County, and the Trident Turning Basin, Cape Canaveral Air Force Station. Researchers may capture, flipper tag, passive integrated transponder (PIT) tag, measure, weigh, blood sample, tissue biopsy, lavage, photograph, temporarily mark and/or remove epibiota from loggerhead, green, Kemp's ridley, hawksbill, and leatherback sea turtles. A subset of green sea turtles may have a transmitter attached to the carapace.

CCS [File No. 14603], 115 Bradford Street, Provincetown, Massachusetts 02657, was issued a five year permit to harass right whales year-round to monitor demographics, life history traits, habitat use, and behavior in the Gulf of Maine; the majority of effort will be focused in Cape Cod Bay, Massachusetts Bay, and the Great South Channel during the season of right whale residency (December 15 - May 15). Researchers are authorized to approach whales during aerial surveys and by vessel for photo-identification, direct observation, collection of prey, and to attach suction cup tags to adult or juvenile right whales. Other large whale species may be incidentally harassed during aerial and vessel surveys, and opportunistic sighting information and photographs may be collected.

Blair Witherington [File No. 14726], Florida Fish and Wildlife Conservation Commission, 9700 South A1A, Melbourne Beach, Florida, 32951, was issued a five-year permit to locate and describe areas of the Atlantic Ocean and Gulf of Mexico near Florida that serve as developmental habitat for pelagic-stage juvenile and neonate loggerhead, green, Kemp's ridley, hawksbill, and leatherback sea turtles, to quantify threats to pelagic sea turtles, and to gather information on their life-history, genetics, movements, behavior, and diet. Researchers are authorized to capture by dip net, flipper tag, PIT tag, measure, weigh, and oral swab loggerhead, green, Kemp's ridley, hawksbill, and leatherback sea turtles. A subset of animals may be skin biopsied, lavaged or have a satellite tag attached.

In compliance with the National Environmental Policy Act of 1969 (42 U.S.C. 4321 et seq.), environmental assessments (EAs) were prepared analyzing the effects of the permitted activities on the human environment. Based on the analyses in the EAs, NMFS determined that issuance of the permits and permit amendment would not significantly impact the quality of the human environment and that preparation of an environmental impact statement was not required. That determination is documented in Findings of No Significant Impact (FONSI) for these actions.

As required by the ESA, issuance of the permits were based on a finding that such permits: (1) were applied for in good faith; (2) will not operate to the disadvantage of such endangered species; and (3) are consistent with the purposes and policies set forth in section 2 of the ESA.

Documents may be reviewed in the following locations:

Permits, Conservation and Education Division, Office of Protected Resources, NMFS, 1315 East-West Highway, Room 13705, Silver Spring, Maryland 20910; phone (301)713-2289; fax (301)713-0376;

Southwest Region, NMFS, 501 West Ocean Blvd., Suite 4200, Long Beach, California 90802-4213; phone (562)980-4001; fax (562)980-4018;

Northeast Region, NMFS, 55 Great Republic Drive, Gloucester, Massachusetts 01930; phone (978)281-9328; fax (978)281-9394; and

Southeast Region, NMFS, 263 13th Avenue South, Saint Petersburg, Florida 33701; phone (727)824-5312; fax (727)824-5309.

Dated: September 27, 2010.
P. Michael Payne,
Chief, Permits, Conservation and Education Division, Office of Protected Resources, National Marine Fisheries Service.

[FR Doc. 2010-24823 Filed 10-1-10; 8:45 am]

BILLING CODE 3510-22-S